DEPARTMENT OF TRANSPORTATION

Federal Aviation Administration

14 CFR Part 71

[Docket No. FAA-2023-0583; Airspace Docket No. 22-ACE-20]

RIN 2120-AA66

Modification of Class E Airspace; Alliance Municipal Airport, Alliance, NE

AGENCY: Federal Aviation Administration (FAA), DOT.

ACTION: Final rule; delay of effective date; modification of order.

SUMMARY: This action delays the original effective date and changes the version of FAA Order JO 7400.11 amended in the final rule published on August 16, 2023. This action also republishes the text of that final rule modifying Class E airspace extending upward from 700 feet above the surface to adequately contain all instrument flight rule (IFR) procedures at Alliance Municipal Airport, NE. This action supports the safety and management of IFR operations at the airport.

DATES: The final rule published at 88 FR 55553, August 16, 2023, is delayed until 0901 UTC, November 30, 2023. This action is effective date 0901 UTC, November 30, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Keith T. Adams, Federal Aviation Administration, Western Service Center, Operations Support Group, 2200 S 216th Street, Des Moines, WA 98198, telephone: (206) 231-2428.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to supports the safety and management of IFR operations at Alliance Municipal Airport.

History

The FAA published a notice of proposed rulemaking for Docket No. FAA-2023-0583 in the Federal Register (88 FR 22385, April 13, 2023), proposing to modify Class E airspace at Alliance Municipal Airport, Alliance, NE. Interested parties were invited to participate in this rulemaking effort by submitting written comments on the proposal to the FAA. No comments were received. The FAA published a final rule for this docket in the Federal Register (88 FR 55553) on August 16, 2023, with an effective date of October 5, 2023. For administrative reasons, the FAA republishes this final rule with a delayed effective date of November 30, 2023, and an amendment to the currently effective version of FAA Order JO 7400.11.

Incorporation by Reference

Class E5 airspace area is published in paragraph 6005 of FAA Order JO 7400.11, Airspace Designations and Reporting Points, which is incorporated by reference in 14 CFR 71.1 on an annual basis. This document amends the current version of that order, FAA Order JO 7400.11H, dated August 11, 2023 and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying Class E airspace beginning at 700 feet above the surface at Alliance Municipal Airport, NE. Class E airspace beginning at 700 feet above the surface is expanded to a 7.6-mile radius to fully contain arriving IFR aircraft operating below 1,500 feet above the surface.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 6005 Class E Airspace Areas Extending Upward From 700 Feet or More Above.

* * * * *

ACE NE E5 Alliance, NE [Amended]

Alliance Municipal Airport, NE

(Lat. 42°03′12″ N, long. 102°48′14″ W)

That airspace extending upward from 700 feet above the surface within a 7.6-mile radius of the airport.

* * * * *

Issued in Des Moines, Washington, on September 6, 2023.
B.G. Chew,
Group Manager, Operations Support Group, Western Service Center.

[FR Doc. 2023-19595 Filed 9-15-23; 8:45 am]

BILLING CODE 4910-13-P